DEPARTMENT OF ENERGY

Federal Energy Regulatory Commission

[Docket No. RP01-183-000]

OkTex Pipeline Company; Notice of Compliance Filing

December 13, 2000.

Take notice that on December 11, 2000, OkTex Pipeline Company (OkTex), filed tariff sheets to become part of its FERC Gas Tariff Original Volume No. 1 the following pro forma tariff sheets:

Second Revised Sheet No. 1

Second Revised Sheet No. 4

6th Revised Sheet No. 9

2nd Revised Sheet No. 15

4th Revised Sheet No. 17

6th Revised Sheet No. 30

2nd Revised Sheet No. 30A

Fourth Revised Sheet No. 38

7th Revised Sheet No. 39

Original Sheet No. 40G

Original Sheet No. 40H

Original Sheet No. 40I

Original Sheet No. 40J

First Revised Sheet No. 47

First Revised Sheet No. 54

Second Revised Sheet No. 60C

Second Revised Sheet No. 61

OkTex states that on February 9, 2000 the Federal Energy Regulatory Commission (Commission) issued its final rule and Order on rehearing regarding the regulation of short-term interstate natural gas transportation services in Docket Nos. RM98-10-002 and RM98-12-002 (“Order No. 637, and 637-A”). In the instant filing OkTex is filing to implement the requirements of Order Nos. 637 and 637-A relating to capacity release, segmentation, operational flow orders, penalties and imbalance management services.

OkTex states that copies of the filing have been mailed to all affected customers and state regulatory commissions.

Any person desiring to be heard or to protest said filing should file a motion to intervene or a protest with the Federal Energy Regulatory Commission, 888 First Street, N.E., Washington, DC 20426, in accordance with Sections 385.214 or 385.2141 of the Commission's Rules and Regulations. All such motions or protests must be filed on or before January 12, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32277 Filed 12-18-00; 8:45 am]

BILLING CODE 6717-01-M